DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We (U.S. Fish and Wildlife Service) solicit review and comment from local, State, and Federal agencies, and the public on the following permit requests.

DATES: Comments on these permit applications must be received on or before April 30, 2003, to receive our consideration.

ADDRESSES: Written data or comments should be submitted to the Chief, Endangered Species, Ecological Services, U.S. Fish and Wildlife Service, 911 NE. 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: 503-231-2063). Please refer to the respective permit number for each application when requesting copies of documents.

SUPPLEMENTARY INFORMATION:

Permit No. TE-832717

Applicant: Rod Dossey, Encinitas, California.

The permittee requests an amendment to remove/reduce to possession (collect) the Arctostaphylos glandulosa ssp. crassifolia (Del Mar manzanita), Chorizanthe orcuttiana (Orcutt's spineflower), Ambrosia pumila (San Diego ambrosia), and Fremontodendron mexicanum (Mexican flannelbush) in conjunction with surveys throughout the range of the species in California for the purpose of enhancing their survival.

Permit No. TE-067992

Applicant: Daniel Dugan, Morro Bay, California.

The applicant requests a permit to take (harass by survey) the Morro shoulderband snail (Helminthoglypta walkeriana) in conjunction with surveys throughout the range of the species in California for the purpose of enhancing its survival.

Permit No. TE-067990

Applicant: Barbie Dugan, Morro Bay, California

The applicant requests a permit to take (harass by survey) the Morro shoulderband snail (Helminthoglypta walkeriana) in conjunction with surveys throughout the range of the species in California for the purpose of enhancing its survival.

Permit No. TE-036499

Applicant: Golden Gate National Recreation Area, San Francisco, California.

The permittee requests an amendment to take (harass by survey) the Mission blue butterfly (Icaricia icaroides missionensis) in conjunction with surveys within the Golden Gate National Recreation Area in California for the purpose of enhancing its survival.

Permit No. TE-068140

Applicant: Laird A. Henkel, Aptos, California.

The applicant requests a permit to take (locate and monitor nests) the California least tern (Sterna antillarum browni) in conjunction with surveys throughout the range of the species in California for the purpose of enhancing its survival.

Permit No. TE-061375

Applicant: Renee Spenst, Sacramento, California.

The permittee requests an amendment to take (harass) the California clapper rail (Rallus longirostris obsoletus) and the salt marsh harvest mouse (Reithrodontomys raviventris) in conjunction with scientific research in Napa County, California for the purpose of enhancing their survival.

Permit No. TE-068072

Applicant: Philippe Vergne, Ramona, California.

The applicant requests a permit to take (capture) the Stephens' kangaroo rat (Dipodomys stephensi), the San Bernardino kangaroo rat (Dipodomys merriami parvus), and the Pacific pocket mouse (Perognathus longimembris pacificus) in conjunction with surveys throughout the range of the species in California for the purpose of enhancing their survival.

Permit No. TE-038701

Applicant: Bonnie Peterson, Lakeside, California.

The permittee requests an amendment to take (locate and monitor nests and band) the California least tern (Sterna antillarum browni) and the least Bell's vireo (Vireo bellii pusillus), and to take (harass by survey, locate and monitor nests, and band) the southwestern willow flycatcher (Empidonax traillii extimus) in conjunction with surveys in San Diego County, California for the purpose of enhancing their survival.

Permit No. TE-068743

Applicant: University of California Botanical Garden, Berkeley, California.

The applicant requests a permit to remove/reduce to possession (collect) the Calystegia stebbinsii (Stebbin's morning-glory), Fremontodendron californicum ssp. decumbens (Pine Hill flannelbush), and Galium californicum ssp. sierrai (El Dorado bedstraw) in conjunction with surveys throughout the range of the species in California for the purpose of enhancing their survival.

We solicit public review and comment on each of these recovery permit applications.

Dated: March 7, 2003.
Rowan W. Gould,
Deputy Regional Director, Region 1, Fish and Wildlife Service.

[FR Doc. 03-7590 Filed 3-28-03; 8:45 am]

BILLING CODE 4310-55-P